SMALL BUSINESS ADMINISTRATION

[Disaster Declaration #11335]

Michigan Disaster #MI-00013

AGENCY: U.S. Small Business Administration.

ACTION: Notice.

SUMMARY: This is a Notice of the Presidential declaration of a major disaster for Public Assistance Only for the State of Michigan (FEMA-1777-DR), dated 07/14/2008.

Incident: Severe Storms, Tornadoes, and Flooding.

Incident Period: 06/06/2008 through 06/13/2008.

EFFECTIVE DATE: 07/14/2008.

Physical Loan Application Deadline Date: 09/12/2008.

Economic Injury (EIDL) Loan Application Deadline Date: 04/14/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 07/14/2008, applications for Private Non-Profit organizations that provide essential services of a governmental nature may file disaster loan applications at the address listed above or other locally announced locations.

The following areas have been determined to be adversely affected by the disaster:

Primary Counties: Allegan, Barry, Eaton, Ingham, Lake, Manistee, Mason, Missaukee, Osceola, Ottawa, Wexford.

Contiguous Counties (Economic Injury Loans Only): Benzie, Calhoun, Clare, Clinton, Crawford, Grand Traverse, Ionia, Isabella, Jackson, Kalamazoo, Kalkaska, Kent, Livingston, Mecosta, Muskegon, Newaygo, Oceana, Roscommon, Shiawassee, Van Buren.

The Interest Rates are:

| Percent
Other (Including Non-Profit Organizations) With Credit Available Elsewhere | 5.250
Businesses and Non-Profit Organizations Without Credit Available Elsewhere | 4.000

The number assigned to this disaster for physical damage and economic injury is 11335.

(Catalog of Federal Domestic Assistance Number 59008)

Herbert L. Mitchell,
Associate Administrator for Disaster Assistance.

[FR Doc. E8-17081 Filed 7-24-08; 8:45 am]

BILLING CODE 8025-01-P